COMMISSION ON CIVIL RIGHTS

Sunshine Act Notice

AGENCY: United States Commission on Civil Rights.

ACTION: Notice of meeting.

DATE AND TIME: Friday, June 10, 2011; 9:30 a.m. EDT.

PLACE: 624 Ninth Street, NW., Room 540, Washington, DC 20425.

Meeting Agenda

This meeting is open to the public.

I. Approval of Agenda

II. Approval of Apr. 8, 2011 Meeting Minutes

III. Program Planning: Update and discussion of projects.

• Consideration of statutory report topic for FY 2012

• Eminent Domain Briefing

IV. State Advisory Committee Issues:

• Discussion of Commissioner membership on SACs

• Re-chartering the Connecticut SAC

• Re-chartering the Tennessee SAC

V. Management and Operations:

• Staff Director's report

VI. Announcements

VII. Adjourn

CONTACT PERSON FOR FURTHER INFORMATION: Lenore Ostrowsky, Acting Chief, Public Affairs Unit (202) 376-8591.

Hearing-impaired persons who will attend the meeting and require the services of a sign language interpreter should contact Pamela Dunston at least three (3) days before the scheduled meeting date at (202) 376-8105.

Dated: May 31, 2011.
Kimberly A. Tolhurst,
Senior Attorney-Advisor.

[FR Doc. 2011-13825 Filed 5-31-11; 4:15 pm]

BILLING CODE 6335-01-P